DEPARTMENT OF HOMELAND SECURITY

Coast Guard

33 CFR Part 100

[Docket Number USCG-2022-0927]

RIN 1625-AA08

Special Local Regulations; Sector Ohio Valley Annual and Recurring Special Local Regulations

AGENCY: Coast Guard, DHS.

ACTION: Final rule.

SUMMARY: The Coast Guard is amending and updating its special local regulations for recurring marine parades, regattas, and other events that take place in the Coast Guard Sector Ohio Valley area of responsibility (AOR). This rule informs the public of regularly scheduled events that require additional safety measures through the establishing of a special local regulation. Through this rulemaking the current list of recurring special local regulations is updated with revisions, additional events, and removal of events that no longer take place in Sector Ohio Valley's AOR. When these special local regulations are enforced, certain restrictions are placed on marine traffic in specified areas.

DATES: This rule is effective April 4, 2023.

ADDRESSES: To view documents mentioned in this preamble as being available in the docket, go to https://www.regulations.gov, type USCG-2022-0927 in the search box and click “Search.” Click on Open Docket Folder on the line associated with this rule.

FOR FURTHER INFORMATION CONTACT: If you have questions on this rule, call or email call or email Petty Officer Brad Ponto, Sector Ohio Valley, U.S. Coast Guard, U.S. Coast Guard; telephone (502) 779-5336, email SECOHV-WWM@uscg.mil.

SUPPLEMENTARY INFORMATION:

I. Table of Abbreviations

CFR Code of Federal Regulations

COTP Captain of the Port Sector Ohio Valley

DHS Department of Homeland Security

E.O. Executive order

FR Federal Register

NPRM Notice of proposed rulemaking

§ Section

U.S.C. United States Code

II. Background Information and Regulatory History

The Captain of the Port Sector Ohio Valley (COTP) is establishing, amending, and updating its current list of recurring special local regulations codified under 33 CFR 100.801 in Table no. 1, for the COTP Ohio Valley zone.

On January 19th, 2023, the Coast Guard published a notice of proposed rulemaking (NPRM) titled Sector Ohio Valley Annual and Recurring Special Local Regulations Update (86 FR 69602). There we stated why we issued the NPRM, and invited comments on our proposed regulatory action related to those recurring regulated areas. During the comment period that ended February 21, 2023, no comments were received.

Under 5 U.S.C. 553(d)(3), the Coast Guard finds that good cause exists for making this rule effective less than 30 days after publication in the Federal Register. Delaying the effective date of this rule would be impracticable because immediate action is needed to ensure the safety of the events occurring in March.

III. Legal Authority and Need for Rule

The Coast Guard is issuing this rule under authority in 46 U.S.C. 70034 (previously 33 U.S.C. 1231). The Coast Guard is amending and updating the special local regulations under 33 CFR part 100 to include the most up to date list of recurring special local regulations for events held on or around navigable waters within the Sector Ohio Valley AOR. These events include marine parades, boat races, swim events, and others. The current list under 33 CFR 100.801 requires amending to provide new information on existing special local regulations, include new special local regulations expected to recur annually or biannually, and to remove special local regulations that are no longer required. Issuing individual regulations for each new special local regulation, amendment, or removal of an existing special local regulation creates unnecessary administrative costs and burdens. This rulemaking reduces administrative overhead and provides the public with notice through publication in the Federal Register of the upcoming recurring special local regulations.

IV. Discussion of Comments, Changes, and the Rule

As noted above, we received no comments on our NPRM published January 19, 2023. There are no changes in the regulatory text of this rule from the proposed rule in the NPRM. This rule amends and updates part 100 of 33 CFR by revising the current table for Sector Ohio Valley, and by adding eight new recurring security zones, removing four security zones, and amending eleven security zones as described in the NPRM. Vessels intending to transit the designated waterway through the safety zone will only be allowed to transit the area when the COTP, or designated representative, has deemed it safe to do so or at the completion of the event.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under Executive Order 12866. Accordingly, this rule has not been reviewed by the Office of Management and Budget (OMB).

The Coast Guard expects the economic impact of this rule to be minimal, and therefore a full regulatory evaluation is unnecessary. This rule establishes special local regulations limiting access to certain areas under 33 CFR 100 within Sector Ohio Valley's AOR. The effect of this rulemaking will not be significant because these special local regulations are limited in scope and duration. Deviation from the special local regulations established through this rulemaking may be requested from the appropriate COTP and requests will be considered on a case-by-case basis. Broadcast Notices to Mariners and Local Notices to Mariners will inform the community of these special local regulations so that they may plan accordingly for these short restrictions on transit. Vessel traffic may request permission from the COTP Ohio Valley or a designated representative to enter the restricted areas.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received 00 comments from the Small Business Administration on this rulemaking. The Coast Guard certifies under 5 U.S.C. 605(b) that this rule will not have a significant economic impact on a substantial number of small entities.

While some owners or operators of vessels intending to transit the safety zone may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves the establishment of special local regulations related to marine event permits for marine parades, regattas, and other marine events. It is categorically excluded from further review under paragraph L(61) of Appendix A, Table 1 of DHS Instruction Manual 023-01-001-01, Rev. 1.

G. Protest Activities

The Coast Guard respects the First Amendment rights of protesters. Protesters are asked to call or email the person listed in the FOR FURTHER INFORMATION CONTACT section to coordinate protest activities so that your message can be received without jeopardizing the safety or security of people, places or vessels.

List of Subjects in 33 CFR Part 100

Marine safety, Navigation (water), Reporting and recordkeeping requirements, and Waterways.

For the reasons discussed in the preamble, the Coast Guard amends 33 CFR part 100 as follows:

PART 100—SAFETY OF LIFE ON NAVIGABLE WATERS

1. The authority citation for part 100 continues to read as follows:

Authority: 46 U.S.C. 70041; 33 CFR 1.05-1.

2. In § 100.801, Revise Table 1 to read as follows:

* * * * *

Table 1 to § 100.801—Sector Ohio Valley Annual and Recurring Marine Events
Date | Event/sponsor | Ohio Valley location | Regulated area
1. 3 days—Second or third weekend in March | Oak Ridge Rowing Association/Cardinal Invitational | Oak Ridge, TN | Clinch River, Mile 48.5-52.0 (Tennessee).
2. 1 day in March | Oak Ridge Rowing Association/US Rowing U19 ID Camp | Oak Ridge, TN | Clinch River, Mile 48.5-52.0 (Tennessee).
3. 1 day—Third weekend in March | Vanderbilt Rowing/Vanderbilt Invite | Nashville, TN | Cumberland River, Mile 188.0-192.7 (Tennessee).
4. 2 days—Fourth weekend in March | Oak Ridge Rowing Association/Atomic City Turn and Burn | Oak Ridge, TN | Clinch River, Mile 48.5-52.0 (Tennessee).
5. 3 days—One weekend in April | Big 10 Invitational Regatta | Oak Ridge, TN | Clinch River, Mile 48.5-52.0 (Tennessee).
6. 1 day—One weekend in April | Lindamood Cup | Marietta, OH | Muskingum River, Mile 0.5-1.5 (Ohio).
7. 3 days—Third weekend in April | Oak Ridge Rowing Association/SIRA Regatta | Oak Ridge, TN | Clinch River, Mile 48.5-52.0 (Tennessee).
8. 2 days—Third or fourth Friday and Saturday in April | Thunder Over Louisville | Louisville, KY | Ohio River, Mile 597.0-604.0 (Kentucky).
9. 1 day—During the last week of April or first week of May | Great Steamboat Race | Louisville, KY | Ohio River, Mile 595.0-605.3 (Kentucky).
10. 3 days—Fourth weekend in April | Oak Ridge Rowing Association/Dogwood Junior Regatta | Oak Ridge, TN | Clinch River, Mile 48.5-52.0 (Tennessee).
11. 1 day in May | Oak Ridge Rowing Association/AAC Championship | Oak Ridge, TN | Clinch River, Mile 48.5-52.0 (Tennessee).
12. 3 days in May | Oak Ridge Rowing Association/ARCA Championship | Oak Ridge, TN | Clinch River, Mile 48.5-52.0 (Tennessee).
13. 3 Days in May | US Rowing Southeast Youth Championship Regatta | Oak Ridge, TN | Clinch River, Mile 48.5-52 (Tennessee).
14. 3 days—Second weekend in May | Vanderbilt Rowing/ACRA Henley | Nashville, TN | Cumberland River, Mile 188.0-194.0 (Tennessee).
15. 3 days—Second weekend in May | Oak Ridge Rowing Association/Big 12 Championships | Oak Ridge, TN | Clinch River, Mile 48.5-52.0 (Tennessee).
16. 3 days—A weekend in May or June | Oak Ridge Rowing Association/Dogwood Masters | Oak Ridge, TN | Clinch River, Mile 48.5-52.0 (Tennessee).
17. 1 day—Third weekend in May | World Triathlon Corporation/IRONMAN 70.3 | Chattanooga, TN | Tennessee River, Mile 462.7-467.5 (Tennessee).
18. 1 day—During the last weekend in May or on Memorial Day | Mayor's Hike, Bike and Paddle | Louisville, KY | Ohio River, Mile 601.0-604.5 (Kentucky).
19. 1 day—The last week in May | Chickamauga Dam Swim | Chattanooga, TN | Tennessee River, Mile 470.0-473.0 (Tennessee).
20. 2 days—Last weekend in May or first weekend in June | Visit Knoxville/Racing on the Tennessee | Knoxville, TN | Tennessee River, Mile 647.0-648.0 (Tennessee).
21. 2 days—Last weekend in May or one weekend in June | Outdoor Chattanooga/Chattanooga Swim Festival | Chattanooga, TN | Tennessee River, Mile 454.0-468.0 (Tennessee).
22. 2 days—First weekend of June | Thunder on the Bay/KDBA | Pisgah Bay, KY | Tennessee River, Mile 30.0 (Kentucky).
23. 1 day—First weekend in June | Visit Knoxville/Knoxville Powerboat Classic | Knoxville, TN | Tennessee River, Mile 646.4-649.0 (Tennessee).
24. 3 days—One of the last three weekends in June | Lawrenceburg Regatta/Whiskey City Regatta | Lawrenceburg, IN | Ohio River, Mile 491.0-497.0 (Indiana).
25. 3 days—One of the last three weekends in June | Hadi Shrine/Evansville Shriners Festival | Evansville, IN | Ohio River, Mile 790.0-796.0 (Indiana).
26. 3 days—Third weekend in June | TM Thunder LLC/Thunder on the Cumberland | Nashville, TN | Cumberland River, Mile 189.6-192.3 (Tennessee).
27. 1 day—Third or fourth weekend in June | Greater Morgantown Convention and Visitors Bureau/Mountaineer Triathlon | Morgantown, WV | Monongahela River, Mile 101.0-102.0 (West Virginia).
28. 1 day—Fourth weekend in June | Team Magic/Chattanooga Waterfront Triathlon | Chattanooga, TN | Tennessee River, Mile 462.7-466.0 (Tennessee).
29. 3 days in June | Lake Guntersville Hydrofest | Guntersville, AL | Tennessee River 355.5-365.5 (Alabama).
30. 1 day in June | Music City Triathlon | Nashville, TN | Cumberland River, Mile 189.7-192.3 (Tennessee).
31. 3 days—The last weekend in June or one of the first two weekends in July | Madison Regatta | Madison, IN | Ohio River, Mile 554.0-561.0 (Indiana).
32. 1 Day in July | Three Rivers Regatta | Knoxville, TN | Tennessee River, Mile 642-653 (Tennessee).
33. 1 Day in July | Tri-Louisville | Louisville, KY | Ohio River, Mile 600.5-604.0 (Kentucky).
34. 1 Day in July | PADL | Cannelton, IN | Ohio River, Miles 719.0-727.0 (Kentucky).
35. 1 day—First week in July | Cincinnati Parks-Sawyer Point/Cincinnati Parks Board | Cincinnati, OH | Ohio River, Miles 469-470 (Ohio).
36. 1 day—First week in July | City of New Richmond, Riverdays/VFW | New Richmond, OH | Ohio River, Mile 449.5-450.5 (Ohio).
37. 1 day—During the first week of July | Evansville Freedom Celebration/4th of July Freedom Celebration | Evansville, IN | Ohio River, Mile 790.0-797.0 (Indiana).
38. First weekend in July | Eddyville Creek Marina/Thunder Over Eddy Bay | Eddyville, KY | Cumberland River, Mile 46.0-47.0 (Kentucky).
39. 2 days—One of the first two weekends in July | Thunder on the Bay/KDBA | Pisgah Bay, KY | Tennessee River, Mile 30.0 (Kentucky).
40. 1 day—Second weekend in July | Bradley Dean/Renaissance Man Triathlon | Florence, AL | Tennessee River, Mile 254.0-258.0 (Alabama).
41. 2 days—Second weekend in July | New Martinsville Vintage Regatta | New Martinsville,WV | Ohio River Mile 127.5-128.5 (West Virginia).
42. 1 day—Third or fourth Sunday of July | Tucson Racing/Cincinnati Triathlon | Cincinnati, OH | Ohio River, Mile 468.3-471.2 (Ohio).
43. 2 days—One of the last three weekends in July | Dare to Care/KFC Mayor's Cup Paddle Sports Races/Voyageur Canoe World Championships | Louisville, KY | Ohio River, Mile 600.0-605.0 (Kentucky).
44. 2 days—Last two weeks in July or first three weeks of August | Friends of the Riverfront Inc./Pittsburgh Triathlon and Adventure Races | Pittsburgh, PA | Allegheny River, Mile 0.0-1.5 (Pennsylvania).
45. 1 day—Last weekend in July | Maysville Paddlefest | Maysville, KY | Ohio River, Mile 408-409 (Kentucky).
46. 2 days—One weekend in July | Marietta Riverfront Roar Regatta | Marietta, OH | Ohio River, Mile 171.6-172.6 (Ohio).
47. 1 day in August | Three Rivers Regatta | Knoxville, TN | Tennessee River 652-653 (Tennessee).
48. 1 day in August | K-Town On The River | Knoxville, TN | Tennessee River 648-650 (Tennessee).
49. 3 days in August | Pro Watercross Music City Grand Prix | Nashville, TN | Cumberland River 190-191 (Tennessee).
50. 1 day—first Sunday in August | Above the Fold Events/Riverbluff Triathlon | Ashland City, TN | Cumberland River, Mile 157.0-159.5 (Tennessee).
51. 3 days—First week of August | EQT Pittsburgh Three Rivers Regatta | Pittsburgh, PA | Allegheny River mile 0.0-1.0, Ohio River mile 0.0-0.8, Monongahela River mile 0.5 (Pennsylvania).
52. 2 days—First weekend of August | Thunder on the Bay/KDBA | Pisgah Bay, KY | Tennessee River, Mile 30.0 (Kentucky).
53. 1 day in August | Riverbluff Triathlon | Ashland City, TN | Cumberland River, Mile 157.0-159.0 (Tennessee).
54. 1 day—One of the first two weekends in August | Green Umbrella/Ohio River Paddlefest | Cincinnati, OH | Ohio River, Mile 458.5-476.4 (Ohio and Kentucky).
55. 2 days—Third full weekend (Saturday and Sunday) in August | Ohio County Tourism/Rising Sun Boat Races | Rising Sun, IN | Ohio River, Mile 504.0-508.0 (Indiana and Kentucky).
56. 3 days—Second or Third weekend in August | Kittanning Riverbration Boat Races | Kittanning, PA | Allegheny River mile 42.0-46.0 (Pennsylvania).
57. 3 days—One of the last two weekends in August | Thunder on the Green | Livermore, KY | Green River, Mile 69.0-72.5 (Kentucky).
58. 1 day—Fourth weekend in August | Team Rocket Tri-Club/Rocketman Triathlon | Huntsville, AL | Tennessee River, Mile 332.2-335.5 (Alabama).
59. 1 day—Last weekend in August | Tennessee Clean Water Network/Downtown Dragon Boat Races | Knoxville, TN | Tennessee River, Mile 646.3-648.7 (Tennessee).
60. 2 days—One weekend in August | POWERBOAT NATIONALS—Ravenswood Regatta | Ravenswood, WV | Ohio River, Mile 220.5-221.5 (West Virginia).
61. 2 days—One weekend in August | Powerboat Nationals—Parkersburg Regatta/Parkersburg Homecoming | Parkersburg, WV | Ohio River Mile 183.5-285.5 (West Virginia).
62. 3 days—One weekend in August | Grand Prix of Louisville | Louisville, KY | Ohio River, Mile 601.0-605.0 (Kentucky).
63. 3 days—One weekend in August | Evansville HydroFest | Evansville, IN | Ohio River, Mile 790.5-794.0 (Indiana).
64. 3 days—One weekend in the month of August | Owensboro HydroFair | Owensboro, KY | Ohio River, Mile 794.0-760.0 (Kentucky).
65. 1 day—First or second weekend of September | SUP3Rivers The Southside Outside | Pittsburgh, PA | Monongahela River mile 0.0-3.09 Allegheny River mile 0.0-0.6 (Pennsylvania).
66. 1 day—First weekend in September or on Labor Day | Mayor's Hike, Bike and Paddle | Louisville, KY | Ohio River, Mile 601.0-610.0 (Kentucky).
67. 2 days—Sunday before Labor Day and Labor Day | Cincinnati Bell, WEBN, and Proctor and Gamble/Riverfest | Cincinnati, OH | Ohio River, Mile 463.0-477.0 (Kentucky and Ohio) and Licking River Mile 0.0-3.0 (Kentucky).
68. 2 days—Labor Day weekend | Wheeling Vintage Race Boat Association Ohio/Wheeling Vintage Regatta | Wheeling, WV | Ohio River, Mile 90.4-91.5 (West Virginia).
69. 3 days—The weekend of Labor Day | Portsmouth River Days | Portsmouth, OH | Ohio River, Mile 355.5-356.8 (Ohio).
70. 2 days—One of the first three weekends in September | Louisville Dragon Boat Festival | Louisville, KY | Ohio River, Mile 602.0-604.5 (Kentucky).
71. 2 days—One of the first three weekends in September | State Dock/Cumberland Poker Run | Jamestown, KY | Lake Cumberland (Kentucky).
72. 3 days—One of the first three weekends in September | Fleur de Lis Regatta | Louisville, KY | Ohio River, Mile 594.0.0-598.0 (Kentucky).
73. 1 day—Second weekend in September | City of Clarksville/Clarksville Riverfest Cardboard Boat Regatta | Clarksville, TN | Cumberland River, Mile 125.0-126.0 (Tennessee).
74. 1 day—One Sunday in September | Ohio River Sternwheel Festival Committee Sternwheel race reenactment | Marietta, OH | Ohio River, Mile 170.5-172.5 (Ohio).
75. 1 Day—One weekend in September | Parkesburg Paddle Fest | Parkersburg, WV | Ohio River, Mile 184.3-188 (West Virginia).
76. 2 days—One of the last three weekends in September | Madison Vintage Thunder | Madison, IN | Ohio River, Mile 556.5-559.5 (Indiana).
77. 1 day—Third Sunday in September | Team Rocket Tri Club/Swim Hobbs Island | Huntsville, AL | Tennessee River, Mile 332.3-338.0 (Alabama).
78. 1 day—Fourth or fifth weekend in September | Knoxville Open Water Swimmers/Bridges to Bluffs | Knoxville, TN | Tennessee River, Mile 641.0-648.0 (Tennessee).
79. 1 day—Fourth or fifth Sunday in September | Green Umbrella/Great Ohio River Swim | Cincinnati, OH | Ohio River, Mile 468.8-471.2 (Ohio and Kentucky).
80. 1 day—One of the last two weekends in September | Ohio River Open Water Swim | Prospect, KY | Ohio River, Mile 587.0-591.0 (Kentucky).
81. 2 days—One of the last three weekends in September or the first weekend in October | Captain Quarters Regatta | Louisville, KY | Ohio River, Mile 594.0-598.0 (Kentucky).
82. 3 days—One of the last three weekends in September or one of the first two weekends in October | Owensboro Air Show | Owensboro, KY | Ohio River, Mile 754.0-760.0 (Kentucky).
83. 1 day—Last weekend in September | World Triathlon Corporation/IRONMAN Chattanooga | Chattanooga, TN | Tennessee River, Mile 462.7-467.5 (Tennessee).
84. 3 days—Last weekend of September and/or first weekend in October | New Martinsville Records and Regatta Challenge Committee | New Martinsville, WV | Ohio River, Mile 128-129 (West Virginia).
85. 2 days—First weekend of October | Three Rivers Rowing Association/Head of the Ohio Regatta | Pittsburgh, PA | Allegheny River mile 0.0-5.0 (Pennsylvania).
86. 1 day in October | Chattajack | Chattanooga, TN | Tennessee River, Miles 462.7-465.5 (Tennessee).
87. 1 day in October | Cumberland River Compact/Cumberland River Dragon Boat Festival | Nashville, TN | Cumberland River, Mile 189.7-192.1 (Tennessee).
88. 1 day in October | Outdoor Chattanooga/Swim the Suck | Chattanooga, TN | Tennessee River, Miles 452.0-454.5 (Tennessee).
89. 1 day—First or second weekend in October | Lookout Rowing Club/Chattanooga Head Race | Chattanooga, TN | Tennessee River, Mile 463.0-468.0 (Tennessee).
90. 1 day in October | Shoals Scholar Dollar | Florence, AL | Tennessee River 255-257 (Alabama).
91. 2 days in October | Music City Head Race | Nashville, TN | Cumberland River 190-195 (Tennessee).
92. 2 days—First or second week of October | Head of the Ohio Rowing Race | Pittsburgh, PA | Allegheny River, Mile 0.0-3.0 (Pennsylvania).
93. 2 days—One of the first three weekends in October | Norton Healthcare/Ironman Triathlon | Louisville, KY | Ohio River, Mile 600.5-605.5 (Kentucky).
94. 2 days—Two days in October | Secret City Head Race Regatta | Oak Ridge, TN | Clinch River, Mile 49.0-54.0 (Tennessee).
95. 3 days—First weekend in November | Atlanta Rowing Club/Head of the Hooch Rowing Regatta | Chattanooga, TN | Tennessee River, Mile 463.0-468.0 (Tennessee).
96. 1 day—Second weekend in December | Charleston Lighted Boat Parade | Charleston, WV | Kanawha River, Mile 54.3-60.3 (West Virginia).

* * * * *

Dated: March 26, 2023.
H.R. Mattern,
Captain, U.S. Coast Guard, Captain of the Port Sector Ohio Valley.

[FR Doc. 2023-06934 Filed 4-3-23; 8:45 am]

BILLING CODE 9110-04-P